ENVIRONMENTAL PROTECTION AGENCY

[EPA-R09-OAR-2007-0393; FRL-8326-5]

Adequacy Status of Motor Vehicle Budgets in Submitted Yuma PM10 Maintenance Plan for Transportation Conformity Purposes; Arizona

AGENCY: Environmental Protection Agency (EPA).

ACTION: Notice of adequacy.

SUMMARY: In this notice, EPA is notifying the public that the Agency has found that the motor vehicle emissions budgets for PM10 in the Yuma PM10 Maintenance Plan are adequate for transportation conformity purposes. The Yuma PM10 Maintenance Plan was submitted to EPA on August 17, 2006 by the Arizona Department of Environmental Quality as a revision to the Arizona state implementation plan (SIP). As a result of our finding, the Yuma Metropolitan Planning Organization and the Federal Highway Administration must use the motor vehicle emissions budgets from the submitted Yuma PM10 Maintenance Plan for future conformity determinations.

DATES: This finding is effective June 27, 2007.

FOR FURTHER INFORMATION CONTACT: Rebecca Rosen, U.S. EPA, Region IX, Air Division AIR-2, 75 Hawthorne Street, San Francisco, CA 94105-3901; (415) 947-4152 or rosen.rebecca@epa.gov.

SUPPLEMENTARY INFORMATION: Throughout this document, whenever “we,” “us,” or “our” is used, we mean EPA.

Today's notice is simply an announcement of a finding that we have already made. EPA Region IX sent a letter to Arizona Department of Environmental Quality on June 1, 2007 stating that the motor vehicle emissions budgets in the submitted Yuma PM10 Maintenance Plan for 1999, 2005 and 2016 are adequate. The finding is available at EPA's conformity Web site: http://www.epa.gov/otaq/stateresources/transconf/adequacy.htm. The adequate motor vehicle emissions budgets are provided in the following table:

Adequate Motor Vehicle Emissions Budgets
Budget year | PM10—tons per year (tpy)
1999 | 12,914
2005 | 12,169
2016 | 10,803

Transportation conformity is required by Clean Air Act section 176(c). EPA's conformity rule requires that transportation plans, transportation improvement programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). We have described our process for determining the adequacy of submitted SIP budgets in our July 1, 2004 preamble starting at 69 FR 40038 and we used the information in these resources in making our adequacy determination. Please note that an adequacy review is separate from EPA's completeness review, and should not be used to prejudge EPA's ultimate approval action for the SIP. Even if we find a budget adequate, the SIP could later be disapproved.

Authority: 42 U.S.C. 7401 et seq.

Dated: May 30, 2007.
Wayne Nastri,
Regional Administrator, Region IX.

[FR Doc. E7-11331 Filed 6-11-07; 8:45 am]

BILLING CODE 6560-50-P